NATIONAL WOMEN'S BUSINESS COUNCIL

Public Meeting

In accordance with 15 U.S.C—7106(b) the National Women's Business Council (NWBC) announces a forthcoming meeting. The meeting will cover action items worked on by NWBC and future projects, including, but not limited to procurement, access to capital and training. The meeting will be held September 17, 2002 at the U.S. Small Business Administration located at 409 3rd Street, SW., Washington, DC in the Eisenhower Conference Room—A, 2nd Floor from 9 a.m. to 2 p.m.

Anyone wishing to make an oral presentation to the Board must contact Gilda Presley, in writing by letter or fax no later than September 12, 2002 in order to be included on the agenda. For further information, please write or call Gilda Presley, U.S. Small Business Administration, 409 3rd Street, SW., Washington, DC 20416. Telephone number (202) 205-3850, Fax number (202) 205-6825.

Kimberly Mace,
Committee Management Specialist.

[FR Doc. 02-22650 Filed 8-30-02; 3:10 pm]

BILLING CODE 6820-AB-P